DEPARTMENT OF THE INTERIOR

National Park Service

General Management Plan, Draft Environmental Impact Statement, Guadalupe Mountains National Park, Texas

AGENCY: National Park Service, Department of the Interior.

ACTION: Notice of availability of the Draft Environmental Impact Statement for the General Management Plan, Guadalupe Mountains National Park.

SUMMARY: Pursuant to the National Environmental Policy Act of 1969, 42 U.S.C. 4332(2)(C), the National Park Service announces the availability of a Draft Environmental Impact Statement for the Draft General Management Plan for Guadalupe Mountains National Park, Texas.

DATES: The National Park Service will accept comments on the Draft Environmental Impact Statement from the public for 60 days from the date the Environmental Protection Agency publishes the Notice of Availability. Public meetings will be scheduled during the 60 day review period.

These meetings will be announced in the local media, on the park's Web site at http://www.nps.gumo/, and via the NPS park planning Web site at http://parkplanning.nps.gov. Interested persons may also contact the park's headquarters at 915-828-3251.

ADDRESSES: Information will be available for public review and comment online at http://parkplanning.nps.gov, in the office of the Superintendent, John Lujan, Guadalupe Mountains National Park Headquarters, 400 Pine Springs Canyon, Salt Flats, Texas, by calling 915-828-3251, and at the following locations: Culberson County Court House, 300 La Caverna Drive, Van Horn, Texas 79855; Carlsbad Public Library, 101 South Halagueno Street, Carlsbad, New Mexico 88220; El Paso Public Library, Government Documents, 501 N. Oregon Street, El Paso, Texas 79901; Dell City ISD Library, 110 North Main Street, Dell City, Texas 79837; Carlsbad Caverns National Park, Administrative Office, 3225 National Parks Highway, Carlsbad, New Mexico 88220.

FOR FURTHER INFORMATION CONTACT: John Lujan, Superintendent, Guadalupe Mountains National Park, 400 Pine Springs Canyon, Salt Flats, Texas 79847-9400, or at GUMO_Superintendent@nps.gov.

SUPPLEMENTARY INFORMATION: The general management plan will guide management of Guadalupe Mountains National Park for the next fifteen to twenty years. The draft general management plan considers four alternatives—a no-action alternative and three action alternatives, including the National Park Service preferred alternative. The no-action alternative would extend existing conditions and management trends into the future. The preferred alternative would emphasize wilderness values and the restoration of ecosystem processes while expanding some opportunities for visitors to enjoy easier access to park settings than currently exist. Alternative B would promote wilderness values and restoration of natural ecosystem processes while providing improved visitor experiences in the existing developed settings. Alternative C would expand opportunities for visitors to enjoy easier access to a range of park settings and disperse park facilities more widely throughout the park. If you wish to comment, you may submit your comments by any one of several methods. You may mail comments to John Lujan, Superintendent, Guadalupe Mountains National Park, 400 Pine Springs Canyon, Salt Flats, Texas 79847-9400. You may also comment via the Internet at http://parkplanning.nps.gov. If you do not receive a confirmation from the system that we have received your Internet message, contact us directly at 915-828-3251 x 0. Finally, you may hand-deliver comments to Guadalupe Mountains National Park Headquarters, 400 Pine Springs Canyon, Salt Flats, Texas 79847-9400. Before including your address, phone number, e-mail address, or other personal identifying information in your comment, you should be aware that your entire comment—including your personal identifying information—may be made publicly available at any time. While you can ask us in your comment to withhold your personal identifying information from public review, we cannot guarantee that we will be able to do so.

Dated: February 7, 2008.
Michael D. Snyder,
Regional Director, Intermountain Region, National Park Service.

[FR Doc. E8-7144 Filed 4-7-08; 8:45 am]

BILLING CODE 4312-CJ-M